DEPARTMENT OF ENERGY

Federal Energy Regulatory Commission

Combined Notice of Filings #1

Take notice that the Commission received the following electric corporate filings:

Docket Numbers: EC20-2-000.

Applicants: Bucksport Generation LLC.

Description: Application for Authorization Under Section 203 of the Federal Power Act, et al. of Bucksport Generation LLC.

Filed Date: 10/1/19.

Accession Number: 20191001-5288.

Comments Due: 5 p.m. ET 10/22/19.

Take notice that the Commission received the following electric rate filings:

Docket Numbers: ER19-2583-000.

Applicants: Green River Wind Farm Phase 1, LLC.

Description: Amendment to August 13, 2019 Green River Wind Farm Phase 1, LLC. tariff filing.

Filed Date: 10/2/19.

Accession Number: 20191002-5077.

Comments Due: 5 p.m. ET 10/9/19.

Docket Numbers: ER20-16-000.

Applicants: Midcontinent Independent System Operator, Inc.

Description: § 205(d) Rate Filing: 2019-10-01_Attachment P Clean-up to be effective 12/1/2019.

Filed Date: 10/1/19.

Accession Number: 20191001-5278.

Comments Due: 5 p.m. ET 10/22/19.

Docket Numbers: ER20-17-000.

Applicants: Tenaska Pennsylvania Partners, LLC.

Description: § 205(d) Rate Filing: Reactive Power Rate Schedule to be effective 11/1/2019.

Filed Date: 10/1/19.

Accession Number: 20191001-5286.

Comments Due: 5 p.m. ET 10/22/19.

Docket Numbers: ER20-18-000.

Applicants: Midcontinent Independent System Operator, Inc.

Description: § 205(d) Rate Filing: 2019-10-02_Termination of SA 3220 Flying Cow Wind-OTP E&P (BSSB) (J493 J510) to be effective 10/3/2019.

Filed Date: 10/2/19.

Accession Number: 20191002-5008.

Comments Due: 5 p.m. ET 10/23/19.

Docket Numbers: ER20-19-000.

Applicants: PJM Interconnection, L.L.C.

Description: Tariff Cancellation: Notice of Cancellation of Service Agreement No. 3602, Queue No. Y1-057 to be effective 7/29/2019.

Filed Date: 10/2/19.

Accession Number: 20191002-5051.

Comments Due: 5 p.m. ET 10/23/19.

Docket Numbers: ER20-20-000.

Applicants: DTE Atlantic, LLC.

Description: Baseline eTariff Filing: DTE Atlantic LLC. MBR Tariff Application to be effective 10/3/2019.

Filed Date: 10/2/19.

Accession Number: 20191002-5074.

Comments Due: 5 p.m. ET 10/23/19.

Docket Numbers: ER20-21-000.

Applicants: Southwest Power Pool, Inc.

Description: Notice of Cancellation of Generator Interconnection Agreement of Southwest Power Pool, Inc.

Filed Date: 10/2/19.

Accession Number: 20191002-5076.

Comments Due: 5 p.m. ET 10/23/19.

Docket Numbers: ER20-22-000.

Applicants: Harbor Cogeneration Company, LLC.

Description: § 205(d) Rate Filing: Normal filing 2019 to be effective 10/3/2019.

Filed Date: 10/2/19.

Accession Number: 20191002-5111.

Comments Due: 5 p.m. ET 10/23/19.

Docket Numbers: ER20-23-000.

Applicants: DTE Atlantic, LLC.

Description: Baseline eTariff Filing: DTE Atlantic LLC. MBR Tariff Application to be effective 10/3/2019.

Filed Date: 10/2/19.

Accession Number: 20191002-5118.

Comments Due: 5 p.m. ET 10/23/19.

Docket Numbers: ER20-24-000.

Applicants: Midcontinent Independent System Operator, Inc., Otter Tail Power Company.

Description: § 205(d) Rate Filing: 2019-10-02_SA 3358 OTP-OTP FSA (G359R) Hankinson-Ellendale & Big Stone-Blair to be effective 12/2/2019.

Filed Date: 10/2/19.

Accession Number: 20191002-5133.

Comments Due: 5 p.m. ET 10/23/19.

Docket Numbers: ER20-25-000.

Applicants: Midcontinent Independent System Operator, Inc., Otter Tail Power Company.

Description: § 205(d) Rate Filing: 2019-10-02_SA 3357 OTP-Dakota Range III FSA (J488) Hankinson-Ellendale to be effective 12/2/2019.

Filed Date: 10/2/19.

Accession Number: 20191002-5153.

Comments Due: 5 p.m. ET 10/23/19.

Docket Numbers: ER20-26-000.

Applicants: Northern States Power Company, a Minnesota corporation, Northern States Power Company, a Wisconsin corporation.

Description: § 205(d) Rate Filing: 20191002_IA_ROE_Update to be effective 1/1/2020.

Filed Date: 10/2/19.

Accession Number: 20191002-5175.

Comments Due: 5 p.m. ET 10/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2019.
Kimberly D. Bose,
Secretary.

[FR Doc. 2019-21974 Filed 10-7-19; 8:45 am]

BILLING CODE 6717-01-P